FEDERAL RESERVE SYSTEM

Change in Bank Control Notices; Acquisitions of Shares of a Bank or Bank Holding Company

The notificants listed below have applied under the Change in Bank Control Act (12 U.S.C. 1817(j)) and § 225.41 of the Board's Regulation Y (12 CFR 225.41) to acquire shares of a bank or bank holding company. The factors that are considered in acting on the notices are set forth in paragraph 7 of the Act (12 U.S.C. 1817(j)(7)).

The notices are available for immediate inspection at the Federal Reserve Bank indicated. The notices also will be available for inspection at the offices of the Board of Governors. Interested persons may express their views in writing to the Reserve Bank indicated for that notice or to the offices of the Board of Governors. Comments must be received not later than May 29, 2012.

A. Federal Reserve Bank of Richmond (Adam M. Drimer, Assistant Vice President) 701 East Byrd Street, Richmond, Virginia 23261-4528:

1. John W. Crites, Marco Island, Florida, to individually retain control of voting shares of Summit Financial Group, Inc., Moorefield, West Virginia, with shares held in his individual capacity, jointly with Patricia Crites, and as trustee for the following trusts: Subtrust f/b/o Zackary Kenton Crites; Subtrust f/b/o Bailey Buena-Vista Crites; Subtrust f/b/o Kevin David Mongold; Subtrust f/b/o Jessica Ann Mongold; Subtrust f/b/o Joshua Alexander Wingard; and Subtrust f/b/o Bianca Marie Wingard; Patricia A. Crites 2010 Grantor Retained Annuity Trust; and Patricia A. Crites 2012 Grantor Retained Annuity Trust. In addition John and Patricia Crites and the following would control in additional voting shares of Summit Financial Group, Inc.: Valerie C. Mongold, Weyers Cave, Virginia,; Kelly C. Wingard, Petersburg, West Virginia, in her individual capacity and a Trustee for the following subtrusts: Subtrust f/b/o Jeremiah Thomas Wingard and Subtrust f/b/o Joseph Riley Wingard; and John W. Crites II, Petersburg, West Virginia.

Board of Governors of the Federal Reserve System, May 9, 2012.
Robert deV. Frierson,
Deputy Secretary of the Board.

[FR Doc. 2012-11666 Filed 5-14-12; 8:45 am]

BILLING CODE 6210-01-P